DEPARTMENT OF HEALTH AND HUMAN SERVICES

Centers for Disease Control and Prevention

[Program Announcement 02158]

University of Georgia Center for Leadership in Education and Applied Research in Mass Destruction Defense; Notice of Award of Funds

A. Purpose

The Centers for Disease Control and Prevention (CDC) announces the award of fiscal year (FY) 2002 funds for a cooperative agreement program for the University of Georgia Center for Leadership in Education and Applied Research in Mass Destruction Defense (CLEARMADD).

The purpose of the program is to facilitate the development of an integrated national system of Centers for Public Health Preparedness focused on improving the capacity of the front-line public health worker to respond to current, new and emerging public health threats. This program addresses the “Healthy People 2010” focus areas of Public Health Infrastructure.

B. Eligible Applicant

Assistance is provided only to the University of Georgia Center for Leadership in Education and Applied Research in Mass Destruction Defense. No other applications were solicited. The House of Representatives Conference Report accompanying the Departments of Labor, Health and Human Services, and Education and Related Agencies Appropriation Bill ending September 30, 2002, and For Other Purposes (H.R. 3061, 107th Congress), recognized the University of Georgia's unique qualifications for carrying out the activities specified in this grant (H.R. Rep. 107-342).

C. Funds

Approximately $642,842 is being awarded in FY 2002. The award will begin on or about August 1, 2002 and will be made for a 12-month budget period within a one year project period.

D. Where To Obtain Additional Information

Business management technical assistance may be obtained from: Sharon Robertson, Grants Management Specialist, Acquisition and Assistance, Branch B, Procurement and Grants Office, Centers for Disease Control and Prevention, 2920 Brandywine Road, Room 3000, Atlanta, GA 30341-4146, Telephone number: 770-488-2748, e-mail address: SRobertson@cdc.gov.

For program technical assistance, contact: Gail Williams, MPH, CHES, Public Health Practice Program Office, Centers for Disease Control and Prevention (CDC), 4770 Buford Hwy., NE., Mailstop K-38, Atlanta, GA 30341-3717, Telephone: (770) 488-8166.

Dated: August 12, 2002.
Sandra R. Manning,
Director, Procurement and Grants Office, Centers for Disease Control and Prevention.

[FR Doc. 02-20947 Filed 8-16-02; 8:45 am]

BILLING CODE 4163-18-P